DEPARTMENT OF DEFENSE

Department of the Army

Performance Review Board Membership for the Office of the Secretary of the Army

AGENCY: Department of the Army, DoD.

ACTION: Notice.

SUMMARY: Notice is given of the names of members of a Performance Review Board for the Department of the Army.

DATES: December 1, 2003.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army, Office of the Secretary of the Army, are:

1. Mr. William A. Armbruster, Deputy Assistant Secretary of the Army for Privatization and Partnership, Office of the Assistant Secretary of the Army (OASA) (Installations and Environment).

2. Mr. Frederick R. Budd, Director, Single Agency Manager for Pentagon Information Technology Services, Office of the Secretary.

3. Mr. William H. Campbell, Director of Operations and Support, OASA (Financial Management and Comptroller).

4. Dr. Craig E. College, Deputy Assistant Secretary of the Army (Infrastructure Analysis), OASA (Installations and Environment).

5. Mr. James C. Cooke, Special Assistant for Systems, Office of the Deputy Under Secretary of the Army.

6. Mr. Thomas Druzgal, Deputy Auditor General, Army Audit Agency.

7. Mr. George S. Dunlop, Deputy Assistant Secretary of the Army (Legislation), OASA (Civil Works).

8. Mr. Raymond J. Fatz, Deputy Assistant Secretary of the Army for Environment, Safety, and Occupational Health, OASA (Installations and Environment).

9. Mr. Patrick J. Fitzgerald, Director, Audit Policy Plans and Resources, Army Audit Agency.

10. Mr. Ernest J. Gregory, Principal Deputy Assistant Secretary of the Army (Financial Management and Comptroller).

11. Ms. Judith A. Guenther, Director of Investments, OASA (Financial Management and Comptroller).

12. MG Lynn Hartsell, Director, Army Budget, OASA (Financial Management and Comptroller).

13. Mr. Walter W. Hollis, Deputy Under Secretary of the Army (Operations Research), Office of the Under Secretary of the Army.

14. Dr. Daphne K. Kamely, Special Assistant to the Deputy Assistant Secretary of the Army for Environment, Safety, and Occupational Health, OASA (Installations and Environment).

15. Mr. Stephen E. Keefer, Director, Logistical and Financial Audits, Army Audit Agency.

16. Mr. Thomas E. Kelly, III, Special Assistant to the Secretary of the Army for Science and Technology, Office of the Secretary.

17. Mr. Wesley C. Miller, Director of Management and Control, OASA (Financial Management and Comptroller).

18. Ms. Joyce E. Morrow, Director, Acquisition and Force Management, Army Audit Agency.

19. BG Roger A. Nadeau, Program Executive Officer, Combat Support/Combat Service Support.

20. Mr. Levator Norsworthy, Jr., Deputy General Counsel (Acquisition), Office of the General Counsel.

21. Ms. Tracey L. Pinson, Director of Small and Disadvantaged Business Utilization, Office of the Secretary.

22. Mr. Geoffrey G. Prosch, Principal Deputy Assistant Secretary of the Army (Installation and Environment).

23. Mr. Mat Reres, Deputy General Counsel (Ethics and Fiscal), Office of the General Counsel.

24. Ms. Sandra R. Riley, Deputy Administrative Assistant to Secretary of the Army, Office of the Secretary.

25. Mr. Richard G. Sayre, Special Assistant for Systems, Office of the Deputy Under Secretary of the Army.

26. Mr. Karl F. Schneider, Deputy Assistant Secretary of the Army (Army Review Boards Agency), Office of the Director.

27. Mr. Matthew L. Scully, Director of Business Resources, OASA (Financial Management and Comptroller).

28. Mr. C. Russell Shearer, Special Assistant to the Assistant Secretary of the Army (Installations and Environment).

29. LTG Jerry L. Sinn, Military Deputy for Budget, OASA (Financial Management and Comptroller).

30. Mr. Douglas Sizelove, Assistant Deputy Under Secretary of the Army (Operations Research), Office of the Under Secretary.

31. Mr. James J. Smyth, Deputy Assistant Secretary of the Army (Project Planning and Review), OASA (Civil Works).

32. Mr. Earl H. Stockdale, Jr., Deputy General Counsel (Civil Works and Environment), Office of the General Counsel.

33. Mr. Thomas W. Taylor, Senior Deputy General Counsel, Office of the General Counsel.

34. Ms. Claudia L. Tornblom, Deputy Assistant Secretary of the Army (Management and Budget), OASA (Civil Works).

35. Ms. Carla a. Von Bernewitz, Director, Business Transformation Task Force, Office of the Under Secretary.

36. MG David F. Wherely, Jr., Director, District of Columbia National Guard.

37. Mr. Joseph W. Whitaker, Jr., Office, Deputy Assistant Secretary of the Army (Installations & Housing).

38. Mr. Avon N. Williams, Principal Deputy General Counsel, Office of the General Counsel.

39. Mr. Robert J. Winchester, Assistant for Intelligence Liaison, Office, Chief of Legislative Liaison.

40. Mr. Gary L. Winkler, Director for Enterprise Management, Office of the Chief Information Officer/G-6.

41. Mr. Robert W. Young, Deputy for Coast Analysis, OASA (Financial Management and Comptroller).

Luz D. Ortiz,
Army Federal Register Liaison Officer.

[FR Doc. 03-30365 Filed 12-5-03; 8:45 am]

BILLING CODE 3710-08-M